DEPARTMENT OF DEFENSE

48 CFR Part 252

[DFARS Case 2004-D006]

Defense Federal Acquisition Regulation Supplement; Designated Countries—New European Union Members

AGENCY: Department of Defense (DoD).

ACTION: Final rule.

SUMMARY: DoD has issued a final rule amending the Defense Federal Acquisition Regulation Supplement (DFARS) to add 10 new European Union Member States to the list of designated countries whose products DoD may acquire under the Trade Agreements Act, in accordance with a determination of the United States Trade Representative.

EFFECTIVE DATE: June 25, 2004.

FOR FURTHER INFORMATION CONTACT: Ms. Amy Williams, Defense Acquisition Regulations Council, OUSD(AT&L)DPAP(DAR), IMD 3C132, 3062 Defense Pentagon, Washington, DC 20301-3062. Telephone (703) 602-0328; facsimile (703) 602-0350. Please cite DFARS Case 2004-D006.

SUPPLEMENTARY INFORMATION:

A. Background

This final rule amends the clauses at DFARS 252.225-7021, Trade Agreements, and 252.225-7045, Balance of Payments Program—Construction Material Under Trade Agreements, to add 10 new European Union Member States to the definition of “designated country.” The new Member States are Cyprus, the Czech Republic, Estonia, Hungary, Latvia, Lithuania, Malta, Poland, the Slovak Republic, and Slovenia. The rule implements a determination of the United States Trade Representative that suppliers of eligible products of these Member States may participate in U.S. Government procurements without discriminatory treatment (69 FR 25654, May 7, 2004).

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2004-D006.

C. Paperwork Reduction Act

The Paperwork Reduction Act does not apply because the rule does not impose any information collection requirements that require the approval of the Office of Management and Budget under 44 U.S.C. 3501, et seq.

List of Subjects in 48 CFR Part 252

Government procurement.

Michele P. Peterson,
Executive Editor, Defense Acquisition Regulations Council.

Therefore, 48 CFR part 252 is amended as follows:

1. The authority citation for 48 CFR part 252 continues to read as follows:

Authority: 41 U.S.C. 421 and 48 CFR chapter 1.

PART 252—SOLICITATION PROVISIONS AND CONTRACT CLAUSES

252.212-7001 [Amended]

2. Section 252.212-7001 is amended in paragraph (b), in entry “252.225-7021”, by removing “(JAN 2004)” and adding in its place “(JUN 2004)”.

3. Section 252.225-7021 is amended by revising the clause date and paragraph (a)(4) to read as follows:

252.225-7021 Trade Agreements.

* * * * *

Trade Agreements (JUN 2004)

(a) * * *

(4) Designated country means—

Aruba

Austria

Bangladesh

Belgium

Benin

Bhutan

Botswana

Burkina Faso

Burundi

Canada

Cape Verde

Central African Republic

Chad

Comoros

Cyprus

Czech Republic

Denmark

Djibouti

Equatorial Guinea

Estonia

Finland

France

Gambia

Germany

Greece

Guinea

Guinea-Bissau

Haiti

Hong Kong

Hungary

Iceland

Ireland

Israel

Italy

Japan

Kiribati

Korea, Republic of

Latvia

Lesotho

Liechtenstein

Lithuania

Luxembourg

Malawi

Maldives

Mali

Malta

Mozambique

Nepal

Netherlands

Niger

Norway

Poland

Portugal

Rwanda

Sao Tome and Principe

Sierra Leone

Singapore

Slovak Republic

Slovenia

Somalia

Spain

Sweden

Switzerland

Tanzania U.R.

Togo

Tuvalu

Uganda

United Kingdom

Vanuatu

Western Samoa

Yemen

* * * * *

4. Section 252.225-7045 is amended by revising the clause date and, in paragraph (a), the definition of “Designated country” to read as follows:

252.225-7045 Balance of Payments Program—Construction Material Under Trade Agreements.

* * * * *

Balance of Payments Program—Construction Material Under Trade Agreements (JUN 2004)

(a) * * *

“Designated country” means—

Aruba

Austria

Bangladesh

Belgium

Benin

Bhutan

Botswana

Burkina Faso

Burundi

Canada

Cape Verde

Central African Republic

Chad

Comoros

Cyprus

Czech Republic

Denmark

Djibouti

Equatorial Guinea

Estonia

Finland

France

Gambia

Germany

Greece

Guinea

Guinea-Bissau

Haiti

Hong Kong

Hungary

Iceland

Ireland

Israel

Italy

Japan

Kiribati

Korea, Republic of Latvia

Lesotho

Liechtenstein

Lithuania

Luxembourg

Malawi

Maldives

Mali

Malta

Mozambique

Nepal

Netherlands

Niger

Norway

Poland

Portugal

Rwanda

Sao Tome and Principe

Sierra Leone

Singapore

Slovak Republic

Slovenia

Somalia

Spain

Sweden

Switzerland

Tanzania U.R.

Togo

Tuvalu

Uganda

United Kingdom

Vanuatu

Western Samoa

Yemen

* * * * *

[FR Doc. 04-14337 Filed 6-24-04; 8:45 am]

BILLING CODE 5001-08-P